DEPARTMENT OF THE INTERIOR

Bureau of Land Management

[17X.LLAZC03000.L12200000.EA0000; AZ-SRP-030-15-01]

Notice of Temporary Closures and Restrictions of Public Lands in La Paz County, AZ

AGENCY: Bureau of Land Management, Interior.

ACTION: Notice.

SUMMARY: Notice is hereby given that closures and restrictions will be in effect on public lands administered by the Bureau of Land Management (BLM), Lake Havasu Field Office. This action is being taken to protect public safety and resources within and adjacent to the permitted operations of the Best in the Desert (BITD) Racing Association “GMZ Utility Terrain Vehicle Winter Nationals Parker 250” and “BlueWater Resort Parker 425” off-highway vehicle (OHV) events.

DATES: The closures and restrictions will be in effect from 2 p.m., January 6, 2017, through 6 p.m., January 8, 2016, and 2 p.m., February 3, 2017, through 2 a.m., February 5, 2017, Mountain Standard Time.

FOR FURTHER INFORMATION CONTACT: Jonathan Azar, Colorado River District Chief Ranger, or Amanda Deeds, Assistant Field Manager, at BLM Lake Havasu Field Office, 2610 Sweetwater Avenue, Lake Havasu City, Arizona 86406, telephone 928-505-1200. Persons who use a telecommunications device for the deaf (TDD) may call the Federal Relay Service (FRS) at 1-800-877-8339 to contact the above individual during normal business hours. This Service is available 24 hours a day, 7 days a week, to leave a message or question for the above individual. You will receive a reply during normal business hours.

SUPPLEMENTARY INFORMATION: The closures and restrictions are issued under the authority of 43 CFR 8364.1 which allows the BLM to establish closures for the protection of persons, property, and public lands and resources. Violation of any of the terms, conditions, or restrictions contained within this closure order may subject the violator to citation or arrest with a penalty or fine or imprisonment or both as specified by law.

Description of Race Course Closed Area: With the exception of access to designated spectator areas, areas subject to this closure include all public lands situated within the interior of the race course, as well as county-maintained roads and highways located within 2 miles of the designated course's perimeter. Beginning at the eastern boundary of the Colorado River Indian Tribe (CRIT) Reservation, the closed area runs east along Shea Road, then east into Osborne Wash on the Parker-Swansea Road to the Central Arizona Project (CAP) Canal. The closed area runs north on the west side of the CAP Canal, crossing the canal on the county-maintained road, running northeast into Mineral Wash Canyon, then southeast on the county-maintained road, through the four-corners intersection to the Midway (Pit) intersection. From there, the course runs east on Transmission Pass Road, through State Trust Land located in Butler Valley, turning north into Cunningham Wash to North Tank then continues south to Transmission Pass Road and east (reentering public land) within 2 miles of Alamo Dam Road. The course turns south and west onto the wooden power line road, onto State Trust Land in Butler Valley, then turns southwest into Cunningham Wash to the Graham Well and intersects Butler Valley Road before heading north and west on the county-maintained road to the “Bouse Y” intersection, 2 miles north of Bouse, Arizona. The course proceeds north, paralleling the Bouse-Swansea Road to the Midway (Pit) intersection, then west along the north boundary (power line) road of the East Cactus Plain Wilderness Area to Parker-Swansea Road. The course turns west into Osborne Wash crossing the CAP Canal, along the north boundary of the Cactus Plain Wilderness Study Area; it continues west staying in Osborne Wash and crossing Shea Road along the southern boundary of Gibraltar Wilderness, rejoining Osborne Wash at the CRIT Reservation boundary.

Closure Restrictions: The following acts are prohibited during the closures:

1. Being present on or driving on the designated race course or the adjacent lands described above. The spectator areas are located on the south side of Shea Road and also at the Bouse “Y”, at the intersection of Butler Valley Ranch Road and Swansea Road. All spectators must stay within the designated spectator areas as they have protective fencing and barriers. Emergency medical response shall only be conducted by personnel and vehicles operating under the guidance of the La Paz County Emergency Medical Services and Fire, the Arizona Department of Public Safety, or the BLM.

2. Vehicle parking or stopping in areas affected by the closures, except where such is specifically allowed (designated spectator areas).

3. Camping in the closed area described above, except in the designated spectator areas.

4. Discharge of firearms.

5. Possession or use of any fireworks.

6. Cutting or collecting firewood of any kind, including dead and down wood or other vegetative material.

7. Operating any vehicle, including all-terrain vehicles, motorcycles, utility terrain vehicles, golf carts, rhinos, side by sides, and any OHVs which are not legally registered for street and highway operations.

8. Operating any vehicle in the area of the closure or on roads within the event area at a speed of more than 35 mph. This does not apply to registered race vehicles during the race, while on the designated race course.

9. Failure to obey any official sign posted by the BLM, La Paz County, or the race promoter.

10. Parking any vehicle in violation of posted restrictions, or in such a manner as to obstruct or impede normal or emergency traffic movement or the parking of other vehicles, create a safety hazard, or endanger any person, property, or feature. Vehicles parked in violation are subject to citation, removal, and/or impoundment at the owner's expense.

11. Failure to obey any person authorized to direct traffic or control access to event area including law enforcement officers, BLM officials, and designated race officials.

12. Failure to observe spectator area quiet hours of 10 p.m. to 6 a.m.

13. Failure to keep campsite or race viewing site free of trash and litter.

14. Allowing any pet or other animal to be unrestrained. All pets must be restrained by a leash of not more than 6 feet in length.

15. Reserving sites within the spectator area. Spectators are prohibited from denying other visitors or parties the use of unoccupied portions of the spectator area.

Exceptions to Closure: The restrictions do not apply to emergency or law enforcement vehicles owned by the United States, the State of Arizona, or La Paz County; or designated race officials, participants and pit crews. All BITD registered media personnel are permitted access to existing routes 50 feet from the race course per BITD standards.

Penalties: Any person who violates these closures may be tried before a United States magistrate and fined in accordance with 18 U.S.C. 3571, imprisoned no more than 12 months under 43 U.S.C. 1733(a) and 43 CFR 8360.0-7, or both. In accordance with 43 CFR 8365.1-7, State or local officials may also impose penalties for violations of Arizona law.

Effect of Closure: The entire area encompassed by the designated course and all areas outside the course as described above and in the time period as described above are closed to all vehicles. The authorized applicant or their representatives are required to post warning signs, control access to, and clearly mark the event route and areas, common access roads, and road crossings during the closure period. Support vehicles under permit for operation by event participants must follow the race permit stipulations.

Authority: 43 CFR 8364.1.

Jason West,
Field Manager.

[FR Doc. 2017-00771 Filed 1-12-17; 8:45 am]

BILLING CODE 4310-32-P